FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date reissued
15893N | Altamar Shipping Services, Inc., 1701 N. 20th Street, Tampa, FL 33605 | February 7, 2003.
13290N | Argosy Transport, Inc., 5572 Lutford Circle, Westminister, CA 92683 | March 5, 2003.
14519N | Classic Cargo International, Inc., 6414A S. Howell Avenue, Oak Creek, WI 53154 | February 23, 2003.
15696N | ENC, Inc. 15606 Broadway Center, Gardena, CA 90248 | February 7, 2003.
14169N | Expedited Transportation Services, Inc., 2169 W. Park Court, Suite 0, Stone Mountain, GA 30087 | February 17, 2003.
17080N | General Cargo & Logistics, 2700 W. 182nd Street, Suite 100, Torrance, CA 90504 | February 23, 2002.
11950N | Intermodal Logistics Systems, 19401 S. Main Street, Unit #102, Gardena, CA 90248 | February 14, 2003.
3779F | L & E International Services, Inc., 380 W. 78th Road, Hialeah, FL 33014 | October 26, 2002.
4185F | Southern Winds International, 1780 Wipple Road, Suite 206, Union City, Ca 96587 | February 26, 2003.
15255N | Triways Shipping Lines, Inc., 11938 S. La Cienega Blvd., Hawthorne, CA 90250 | February 6, 2003.
4642F | Varko International, Corp., 7700 NW 73rd Court, Medley, FL 33166 | February 7, 2003.
2813F | Vital International Freight Services, Inc., 5200 W. Century Blvd., Susite 290, Los Angles, CA 90045 | March 1, 2003.
2674F | World Express Cargo, Inc., 12612 Executive Drive, #700, Stafford, TX 77477 | December 8, 2002.

Dated: April 4, 2003.
Sandra L. Kusumoto,
Director, Bureau of Consumer Complaints and Licensing.

[FR Doc. 03-8695 Filed 4-9-03; 8:45 am]

BILLING CODE 6730-01-P